DEPARTMENT OF THE INTERIOR

National Park Service

[NPS-WASO-NRNHL-10956; 2200-3200-665]

National Register of Historic Places; Notification of Pending Nominations and Related Actions

Nominations for the following properties being considered for listing or related actions in the National Register were received by the National Park Service before July 21, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 4, 2012. Before including your address, phone number, email address, or other personal identifying information in your comment, you should be aware that your entire comment—including your personal identifying information—may be made publicly available at any time. While you can ask us in your comment to withhold your personal identifying information from public review, we cannot guarantee that we will be able to do so.

Dated: July 26, 2012.
J. Paul Loether,
Chief, National Register of Historic Places/National Historic Landmarks Program.

MISSOURI

Randolph County

Moberly Commercial Historic District, Roughly bounded by W. Coates, W. Rollins, N. Clark, & Johnson Sts., Moberly, 12000592

MONTANA

Lincoln County

Coram Hotel, The, 302 California Ave., Libby, 12000593

NEW JERSEY

Essex County

Woman's Club of Upper Montclair, (Clubhouses of New Jersey Women's Clubs), 200 Cooper Ave., Montclair, 12000594

Morris County

Flanders Methodist Episcopal Church, 4 Park Place, Flanders, 12000595

NEW YORK

Columbia County

North Chatham Historic District, NY 203, Cty. Rds. 32 & 17, Depot St., Mill Ln., Bunker Hill & Dom Rds., North Chatham, 12000596

Monroe County

Holy Rosary Church Complex, 414 Lexington Ave., Rochester, 12000597

Otsego County

White House, The, 108 White House Rd., Hartwick, 12000598

Queens County

St. Matthias Roman Catholic Church Complex, (Ridgewood MRA), 58-15 Catalpa Ave., Queens, 12000599

Westchester County

Usonia Historic District, Usonia & Rocky Vale Rds., Laurel Hill & Orchard Brook Drs., Pleasantville, 12000600

NORTH CAROLINA

Anson County

Barrett—Faulkner House, 2063 Monroe-White Store Rd., Peachland, 12000601

OREGON

Multnomah County

PT-658 (motor torpedo boat), 6735 Basin Ave., Portland, 12000602

PENNSYLVANIA

Adams County

Pleasant Grove School, (Educational Resources of Pennsylvania MPS), 4084 Baltimore Pike (Mt. Joy Township), Germantown, 12000603

Allegheny County

Ursuline Young Ladies Academy, 201 S. Winebiddle St., Pittsburgh, 12000604

Carbon County

Lansford Historic District, Roughly bounded by Snyder Ave., Cortright, East, & Water Sts., Lansford, 12000605

Chester County

Wiley—Cloud House, 107 Ironstone Ln. (Kennett Township), Kennett Square, 12000606

Delaware County

Downtown Wayne Historic District, Roughly bounded by Louella Ct., West, & S. Wayne Aves. (Radnor Township), Wayne, 12000607

Lebanon County

Mt. Gretna Campmeeting Historic District, Roughly bounded by PA 117, Pinch Rd., Bell Ave., & 1st St. (West Cornwall Township), Mt. Gretna Heights, 12000608

VIRGINIA

Salem Independent city

Roanoke Veterans Administration Hospital Historic District, (United States Second Generation Veterans Hospitals MPS), 1970 Roanoke Blvd., Salem (Independent City), 12000609

WISCONSIN

Milwaukee County

Mitchell, Alexander, House, 900 W. Wisconsin Ave., Milwaukee, 86003852

WISCONSIN

Rock County

Leonard—Leota Park, 20, 30, 40, 50, ca 60, 120, 121 Antes Dr., 321, 340, 359, 360, 363, 365, 395 Burr W. Jones Cir., Leonard Park Dr., Evansville, 12000610

[FR Doc. 2012-20299 Filed 8-17-12; 8:45 am]

BILLING CODE 4312-51-P